DEPARTMENT OF TRANSPORTATION

Federal Highway Administration

Environmental Impact Statement: Wayne County, MI

AGENCY: Federal Highway Administration (FHWA), DOT.

ACTION: Notice of availability (NOA) of the Final Environmental Impact Statement (FEIS) for the Detroit River International Crossing Study and Section 4(f) Evaluation.

SUMMARY: This notice announces the availability of a Final Environmental Impact Statement (FEIS) and Section 4(f) Evaluation for the Detroit River International Crossing Study (DRIC). This action is pursuant to the National Environmental Policy Act (NEPA) of 1969, 42 U.S.C. 4321 et seq., as amended and the Council on Environmental Quality Regulations (40 CFR parts 1500-1508). The FEIS identifies the Preferred Alternative for a new border crossing between Detroit, Michigan and Windsor, Ontario; describes the environmental impacts of the proposed project and proposed mitigation; and addresses comments received on the Draft Environmental Impact Statement and Section 4(f) Evaluation issued in February 2008.

DATES: Any comments must be received on or before January 5, 2009. The FEIS waiting period ends 30 days after the U.S. Environmental Protection Agency publishes the DRIC's NOA in the Federal Register (currently scheduled to be published on December 5th).

ADDRESSES:

1. Document Availability: Copies of the FEIS are available for public inspection and review on the project Web site: http://www.partnershipborderstudy.com and at the following locations:

MDOT Bureau of Transportation Planning, 425 Ottawa St., Lansing;

MDOT Metro Region Office, 18101 W. Nine Mile Rd., Southfield;

MDOT Detroit Transportation Service Center, 1400 Howard St., Detroit;

MDOT Taylor Transportation Service Center, 25185 Goddard, Taylor;

Henry Ford Centennial Library, 16301 Michigan Ave., Detroit;

Detroit Public Library, 5201 Woodward Ave., Detroit;

Bowen Branch of the Detroit Public Library, 3648 W. Vernor, Detroit;

Library at Southwestern High School, 6921 W. Fort St., Detroit;

Delray Recreation Center, 420 Leigh St., Detroit;

Allen Park Library, 8100 Allen Rd., Allen Park;

Ecorse Library, 4184 W. Jefferson Ave., Ecorse;

Melvindale Library, 18650 Allen Rd., Melvindale;

River Rouge Library, 221 Burke St., River Rouge;

Kemeny Recreation Center, 2260 S. Fort St., Detroit;

Campbell Brand Library, 8733 W. Vernor Hwy., Detroit;

Neighborhood City Hall Central District, 2 Woodward Ave., Detroit;

Neighborhood City Hall Northwestern District, 19180 Grand River Ave., Detroit;

Neighborhood City Hall Northeastern District, 2328 E. Seven Mile Rd., Detroit;

Neighborhood City Hall Western District, 18100 Meyers Road, Detroit;

Neighborhood City Hall Eastern District, 7737 Kercheval St., Detroit;

Neighborhood City Hall Southwestern District, 7744 W. Vernor St., Detroit.

Copies of the FEIS may be requested from Bob Parsons (Public Involvement and Hearings Officer) at the Michigan Department of Transportation, 425 W. Ottawa Street, P.O. Box 30050, Lansing, MI 48909 or by calling (517) 373-9534.

2. Comments: Send any comments on the FEIS to the Michigan Department of Transportation, c/o Bob Parsons (Public Involvement and Hearings Officer), 425 W. Ottawa Street, P.O. Box 30050, Lansing, MI 48909; Fax: (517) 373-9255; or e-mail: parsonsb@michigan.gov. Information regarding this proposed action is available in alternative formats upon request.

FOR FURTHER INFORMATION CONTACT: Ryan Rizzo, Major Project Manager, at FHWA Michigan Division, 315 W. Allegan Street, Room 201, Lansing, MI 48933; by phone at (517) 702-1833, or e-mail at Ryan.Rizzo@FHWA.DOT.US.

David Williams, Environmental Program Manager, FHWA Michigan Division, 315 W. Allegan Street, Room 201, Lansing, MI 48933; by phone at (517) 702-1820; or e-mail at David.Williams@FHWA.DOT.US.

SUPPLEMENTARY INFORMATION: The Detroit River International Crossing (DRIC) Study is a bi-national effort to complete the environmental study processes related to a new border crossing. The DRIC Study identifies solutions that support the region, state, provincial and national economies while addressing the civil and national defense and homeland security needs of the busiest trade corridor between Canada and the United States. Leading the study is the Border Transportation Partnership (The Partnership) comprised of the following agencies: Federal Highway Administration (FHWA), Michigan Department of Transportation (MDOT), Transport Canada (TC) and Ontario Ministry of Transportation (MTO). The Partnership completed the Planning/Needs and Feasibility Study in February 2004, released the DEIS for public review and comment in February 2008 and conducted public hearings in March 2008. The FEIS includes responses to the comments received during that public comment period. All approvals will be consistent with the National Environmental Policy Act (NEPA) in the U.S., the Ontario Environmental Assessment Act (OEAA) and the Canadian Environmental Assessment Act (CEAA). The Canadian environmental clearance process also is nearing completion.

Purpose and Need for the Project: The purpose of the DRIC Study is to provide safe, efficient and secure movement of people and goods across the U.S.-Canadian border in the Detroit River area to support the economies of Michigan, Ontario, Canada and the United States, and to support the mobility needs of national and civil defense to protect the homeland. To address future border crossing mobility requirements through 2035, there is a need to: Provide new border-crossing capacity to meet increased long-term demand; improve system connectivity to enhance the seamless flow of people and goods; improve operations and processing capability in accommodating the flow of people and goods; and provide reasonable and secure crossing options (i.e., redundancy) in the event of incidents, maintenance, congestion, or other disruptions.

Preferred Alternatives: The Preferred Alternative evaluated includes an interchange with I-75, a customs inspection plaza, and a bridge from the plaza that spans the Detroit River. The FEIS analyzes the issues/impacts on the United States' side of the proposed new border crossing. A Canadian-produced set of documents analyzes the issues/impacts on the Canadian side. The No-Build Alternative would not result in a new international border crossing system in the Detroit-Windsor area. Only the existing crossings, plazas and freeway connections, including the Gateway connection currently under construction, would continue operations. The No-Build Alternative considered the proposal by the private-sector owners of the Ambassador Bridge to build a six-lane span to replace the existing four-lane bridge.

Authority: 42 U.S.C. 4321 et seq., as amended and the Council on Environmental Quality Regulations (40 CFR Parts 1500-1508) 23 CFR 771.117; and 23 U.S.C. 139(1)(1).

Issued on: November 24, 2008.
James J. Steele,
Division Administrator, Lansing, Michigan.

[FR Doc. E8-28563 Filed 12-4-08; 8:45 am]

BILLING CODE 4910-22-P